DEPARTMENT OF AGRICULTURE

Rural Housing Service

[Docket No.: RHS-22-SFH-0021]

60-Day Notice of Proposed Information Collection: American Rescue Plan Act, 2021 (ARPA)—7 CFR Part 3550, Direct Single Family Housing Sections 502 and 504 Loan Programs; OMB Control No.: 0575-NEW

AGENCY: Rural Housing Service, USDA.

ACTION: Notice; request for comments.

SUMMARY: In accordance with the Paperwork Reduction Act of 1995, the United States Department of Agriculture (USDA) Rural Housing Service announces its intention to request approval of a new information collection and invites comments on this information collection.

DATES: Comments on this notice must be received by December 2, 2022 to be assured of consideration.

ADDRESSES: Comments may be submitted electronically by the Federal eRulemaking Portal: Go to http://www.regulations.gov and in the “Search for Rules, Proposed Rules, Notices or Supporting Documents” box, enter the following docket number: (RHS-22-SFH-0021). To submit or view public comments, click “Search” button, select the “Documents” tab, then select the following document title: (American Rescue Plan Act, 2021 (ARPA)—7 CFR PART 3550, Direct Single Family Housing Sections 502 and 504 Loan Programs) from the “Search Results” and select the “Comment” button. Before submitting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

FOR FURTHER INFORMATION CONTACT: MaryPat Daskal, Chief, Branch 1, Rural Development Innovation Center—Regulations Management Division, United States Department of Agriculture, 1400 Independence Avenue SW, South Building, Washington, DC 20250-1522. Telephone: (202) 720-7853. Email MaryPat.Daskla@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies the following information collection that the Rural Housing Service is submitting to OMB as a new information collection.

Title: American Rescue Plan Act, 2021 (ARPA)—7 CFR PART 3550, “Direct Single Family Housing Sections 502 and 504 Loan Programs”.

OMB Control Number: 0575-NEW.

Expiration Date of Approval: N/A.

Type of Request: Regular approval of a new information collection.

Estimate of Burden: Public reporting for this collection of information is estimated to average .20 hours per response.

Respondents: Not-for-profit institutions and other businesses; individuals.

Estimated Number of Respondents: 4,420.

Estimated Number of Responses per Respondent: 3.

Estimated Total Annual Burden on Respondents: 2,602 hours.

Abstract: The Rural Housing Service, through its Direct Single Family Housing Section 502 and 504 loan programs, provide eligible applicants with financial assistance to own adequate but modest homes in rural areas. Title 7 CFR part 3550 sets forth the programs' policies and the programs' procedures can be found in its accompanying handbooks (Handbook-1-3550 and Handbook-2-3550). To originate and service direct loans and grants that comply with the programs' statute, policies, and procedures, RHS must collect information from low- and very low-income applicants, third parties associated with or working on behalf of the applicants, borrowers, and third parties associated with or working on behalf of the borrowers.

The American Rescue Plan (ARP) Act of 2021 (Pub. L. 117-2; sec. 3207, H.R. 1319) appropriated additional funds for the Single Family Housing (SFH) Section 502 and 504 Direct Loan Program borrowers. The stated purpose of the American Rescue Plan Act (ARPA) of 2021 is to provide “additional relief to address the continued impact of COVID-19 on the economy, public health, state and local governments, individuals, and businesses.” The Agency's objective under the ARPA is to refinance the existing section 502 direct and section 504 borrowers who have been granted and received a COVID-19 payment moratorium. Refinancing these loans with a lower interest rate and extended terms will help provide needed relief to low- and very-low-income borrowers, so that mortgage payments are more affordable post-moratorium.

Information needed for origination purposes is largely collected by RD field staff from applicants and third parties associated with or working on behalf of the applicants. Information needed for servicing purposes is largely collected by the Servicing and Asset Management Office (Servicing Center) from borrowers and third parties associated with or working on behalf of the borrowers. The party collecting the information provides the respondent with the needed form(s) and/or non-form(s) along with submission instructions. The information collected is used to:

• Determine if the applicable eligibility and/or action standards are met.

○ If they are, the appropriate processing steps are taken.

○ If they are not and the decision is adverse to the applicant/borrower, the respondent is notified of their rights.

• Ensure that any payments (i.e., the extended financing and payment subsidies) are proper under statutory, contractual, administrative, or other legally applicable requirements.

Comments are invited on:

(a) Whether the collection of information is necessary for the proper performance of the functions of the agency, including whether the information will have practical utility;

(b) the accuracy of the agency's estimate of the burden of the collection of information including the validity of the methodology and assumptions used;

(c) ways to enhance the quality, utility and clarity of the information to be collected; and (d) ways to minimize the burden of the collection of information on respondents, including through the use of appropriate automated, electronic, mechanical, or other technological collection techniques or other forms of information technology. All responses to this notice will be summarized and included in the request for OMB approval. All comments will become a matter of public record.

Copies of this information collection can be obtained from Kimble Brown, Rural Development Innovation Center—Regulations Management Division, at (202) 720-6780. Email: kimble.brown@usda.gov.

All responses to this notice will be summarized and included in the request for OMB approval. All comments will also become a matter of public record.

Jamal Habibi,
Acting Administrator, Rural Housing Service.

[FR Doc. 2022-21356 Filed 9-30-22; 8:45 am]

BILLING CODE P